DEPARTMENT OF COMMERCE

National Oceanic and Atmospheric Administration

[I.D. 011806C]

Pacific Fishery Management Council; Public Meeting/Workshop

AGENCY: National Marine Fisheries Service (NMFS), National Oceanic and Atmospheric Administration (NOAA), Commerce.

ACTION: Notice of public meeting.

SUMMARY: The Groundfish Stock Assessment Review (STAR) Panel for Pacific hake (whiting) will hold a work session which is open to the public.

DATES: The Pacific hake (whiting) STAR Panel meeting will be held beginning 1 p.m., February 6, 2006. The meeting will continue on February 7, 2006 beginning at 8:30 a.m. through February 10, 2006. The meetings will end at 5 p.m. each day, or as necessary to complete business.

ADDRESSES: The Pacific hake (whiting) STAR Panel meeting will be held at the National Marine Fisheries Service, Northwest Fisheries Science Center, The Auditorium, 2725 Montlake Boulevard East, Seattle, WA 98112; telephone: 206-860-3200.

Council address: Pacific Fishery Management Council, 7700 NE Ambassador Place, Suite 200, Portland, OR 97220-1384.

FOR FURTHER INFORMATION CONTACT: Ms. Stacey Miller, Northwest Fisheries Science Center (NWFSC); telephone: 206-860-3480; or Mr. John DeVore, Pacific Fishery Management Council; telephone: 503-820-2280.

SUPPLEMENTARY INFORMATION: The purpose of this meeting is to review draft whiting stock assessment documents and any other pertinent stock information, work with the Stock Assessment Team to make necessary revisions to the draft whiting stock assessment, and produce a STAR Panel report for use by the Council family and other interested persons. No management actions will be decided by the STAR Panel. The STAR Panel's role will be development of recommendations and reports for consideration by the Council at its March meeting in Seattle, Washington.

Entry to the NWFSC requires visitors to show a valid picture ID and register with security. A visitor's badge, which must be worn while at the NWFSC facility, will be issued to non-federal employees participating in the meeting.

Although nonemergency issues not contained in the meeting agenda may come before the STAR Panel meeting participants for discussion, those issues may not be the subject of formal STAR Panel meeting action during this meeting. STAR Panel meeting action will be restricted to those issues specifically listed in this notice and any issues arising after publication of this notice that require emergency action under section 305(c) of the Magnuson-Stevens Fishery Conservation and Management Act, provided the public has been notified of the STAR Panel meeting participants' intent to take final action to address the emergency.

Special Accommodations

This meeting is physically accessible to people with disabilities. Requests for sign language interpretation or other auxiliary aids should be directed to Ms. Carolyn Porter at 503-820-2280 at least five days prior to the meeting date.

Dated: January 18, 2006.
Emily Menashes,
Acting Director, Office of Sustainable Fisheries, National Marine Fisheries Service.

[FR Doc. E6-728 Filed 1-20-06; 8:45 am]

BILLING CODE 3510-22-S